NUCLEAR REGULATORY COMMISSION

Advisory Committee on the Medical Uses of Isotopes: Meeting Notice

AGENCY: U.S. Nuclear Regulatory Commission.

ACTION: Notice of meeting.

SUMMARY: The U.S. Nuclear Regulatory Commission will convene a meeting of the Advisory Committee on the Medical Uses of Isotopes (ACMUI) on April 18, 2001. The meeting will take place at the address provided below. The entire meeting will be open to the public. Topics of discussion will include: (1) status of issuance of the new 10 CFR part 35, Medical Use of Byproduct Material; (2) transition and implementation issues for the new 10 CFR part 35; (3) recognition of certification boards for training and experience qualifications; and (4) licensing issues for brachytherapy.

DATES: The meeting will be held on April 18, 2001, from 8 a.m. to 5 p.m.

ADDRESSES: U.S. Nuclear Regulatory Commission, Two White Flint North Building, Conference Room T2B3, 11545 Rockville Pike, Rockville, MD 20852-2738.

FOR FURTHER INFORMATION CONTACT: Angela R. Williamson, telephone (301) 415-5030, e-mail arw@nrc.gov, of the Office of Nuclear Material Safety and Safeguards, U.S. Nuclear Regulatory Commission, Washington, DC 20555-0001.

Conduct of the Meeting

Manuel D. Cerqueira, M.D., will chair the meeting. Dr. Cerqueira will conduct the meeting in a manner that will facilitate the orderly conduct of business. The following procedures apply to public participation in the meeting:

1. Persons who wish to provide a written statement should submit reproducible copy to Angela Williamson (address previously listed) by April 11, 2001. Statements must pertain to the topics on the agenda for the meeting.

2. Questions from members of the public will be permitted during the meeting, at the discretion of the Chairman.

3. The transcript and written comments will be available for inspection and copying for a fee, at the NRC Public Document Room, 11555 Rockville Pike, Rockville, MD 20852-2738, telephone (800) 397-4209, on or about May 20, 2001. Minutes of the meeting will be available on or about June 8, 2001.

4. Seating for the public will be on a first-come, first served basis.

This meeting will be held in accordance with the Atomic Energy Act of 1954, as amended (primarily Section 161a); the Federal Advisory Committee Act (5 U.S.C. App); and the Commission's regulations in Title 10, U.S. Code of Federal Regulations, Part 7.

Dated: March 12, 2001.
Andrew L. Bates,
Advisory Committee Management Officer.

[FR Doc. 01-6615 Filed 3-15-01; 8:45 am]

BILLING CODE 7590-01-P